DEPARTMENT OF ENERGY

Federal Energy Regulatory Commission

[Docket No. CP04-18-000]

Northern Natural Gas Company; Notice of Request Under Blanket Authorization

November 26, 2003.

Take notice that on November 21, 2003, Northern Natural Gas Company (Northern), 1111 South 103rd Street, Omaha, Nebraska 68124-1000, filed in Docket No. CP04-18-000, an application pursuant to Sections 157.205 and 157.208 of the Commission's Regulations under the Natural Gas Act (NGA) as amended, for authorization to reduce the maximum allowable operating pressure (MAOP) on its pipeline in Upton and Midland Counties, Texas, under Northern's blanket certificate issued in Docket No. CP82-401-000 pursuant to section 7 of the NGA, all as more fully set forth in the application, which is on file with the Commission and open to public inspection.

Northern proposes to reduce the MAOP of the 24-inch Plymouth to Spraberry pipeline in Texas to 550 psig from the currently authorized MAOP of 705 psig. Northern states that the pipeline has historically operated at 640 psig and has determined that the reduced psig would be sufficient to meet its contractual firm obligations. It is asserted that the reduction in MAOP would reduce the risk of a potential failure on the pipeline. Northern states that an inspection of the pipeline revealed indications of corrosion, and Northern determined that reducing the MAOP would be the best way to avoid problems in the future. Northern proposes to reduce the MAOP by adjusting regulators located at the abandoned Plymouth station and at the Spraberry station and asserts that no construction would be required.

Any questions concerning this application may be directed to Michael T. Loeffler, Director, Certificates and Community Relations, at (402) 398-7103, or Bret Fritch, Senior Regulatory Analyst, at (402) 398-7140.

This filing is available for review at the Commission or may be viewed on the Commission's Web site at http://www.ferc.gov, using the “eLibrary” link. Enter the docket number excluding the last three digits in the docket number field to access the document. For assistance, please contact FERC Online Support at FERC OnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: January 12, 2004.

Linda Mitry,
Acting Secretary.

[FR Doc. E3-00450 Filed 12-2-03; 8:45 am]

BILLING CODE 6717-01-P